DEPARTMENT OF DEFENSE

Defense Logistics Agency

32 CFR Part 1293

Removal of Parts Concerning Standards of Conduct

AGENCY: Defense Logistics Agency, DoD.

ACTION: Final rule.

SUMMARY: This document removes information in title 32 of the Code of Federal Regulations concerning the DLA Standards of Conduct Program. Because the Department of Defense has promulgated rules prescribing standards of conduct applicable to all DoD entities, individual DoD Component rules are no longer required. Accordingly, the DLA Standards of Conduct rules may be removed.

EFFECTIVE DATE: November 19, 2002.

ADDRESSES: Defense Logistics Agency, Office of the General Counsel, ATTN: DG, 8725 John J. Kingman Road, STOP 2533, Fort Belvoir, VA 22060-6221.

FOR FURTHER INFORMATION CONTACT: Mr. Richard Saviet (703) 767-5023 or richard_saviet@hq.dla.mil.

SUPPLEMENTARY INFORMATION: DoD Directive 5500.7, Standards of Conduct, and DoD 5500.7-R, Joint Ethics Regulation, are available via the Internet at http://www.dtic.mil/whs/directives/. Paper copies of the current documents may be obtained, at cost, from the National Technical Information Service (NTIS), 5285 Port Royal Road, Springfield, VA 22161. Electronic orders may be placed at http://csrc.nist.gov/publications/ordering-pubs.html

List of Subjects in 32 CFR Part 1293

Standards of Conduct

PART 1293—[REMOVED]

Accordingly, by the authority of 5 U.S.C. 301, 32 CFR part 1293 is removed.

Walter Thomas,
Associate General Counsel, Defense Logistics Agency.

[FR Doc. 02-29288 Filed 11-18-02; 8:45 am]

BILLING CODE 3620-01-M